FEDERAL COMMUNICATIONS COMMISSION

Notice of Public Information Collection(s) Being Submitted for Review to the Office of Management and Budget

January 18, 2007.

SUMMARY: The Federal Communications Commission, as part of its continuing effort to reduce paperwork burden invites the general public and other Federal agencies to take this opportunity to comment on the following information collection(s), as required by Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at (202) 395-5167 or via Internet at Allison_E._Zaleski@omb.eop.gov and to LeslieF.Smith@fcc.gov, Federal Communications Commission, Room 1-C216, 445 12 Street, SW., Washington, DC 20554, or an e-mail to PRA@fcc.gov. If you would like to obtain or view a copy of this information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-1088.

Title: Rules and Regulations Implementing the Telephone Consumer Protection Act (TCPA) of 1991, Report and Order and Third Order on Reconsideration, CG Docket No. 05-338, FCC 06-42.

Form Number: FCC Form 1088.

Type of Review: Revision of a currently approved collection.

Respondents: Business or other for-profit entities; Not-for-profit institutions; and Individuals or households.

Number of Respondents: 5,000,000.

Estimated Time per Response: 3-30 minutes.

Frequency of Response: Recordkeeping; Monthly, annual, and on occasion reporting requirements; Third party disclosure.

Obligation to Respond: Required to obtain or retain benefits.

Total Annual Burden: 3,380,000 hours.

Total Annual Cost: $8,000,000.

Nature and Extent of Confidentiality: An assurance of confidentiality is not offered, although, individuals or households, who provide sensitive information, e.g., “personally identifiable information,” should submit FCC Form 1088 via mail rather than electronically.

Privacy Impact Assessment: No; a PIA will be done when the system of records notice is revised.

Needs and Uses: On April 5, 2006, the Commission adopted a Report and Order and Third Order On Reconsideration, In the Matter of Rules and Regulations Implementing the Telephone Consumer Protection Act of 1991; Junk Fax Prevention Act of 2005; CG Docket Nos. 02-278 and 05-338, FCC 06-42, which modified the Commission's facsimile advertising rules to implement the Junk Fax Prevention Act. The Report and Order and Third Order on Reconsideration contains information collection requirements pertaining to: (1) Opt-out Notice and Do-Not-Fax Requests Recordkeeping in which the rules require senders of unsolicited facsimile advertisements to include a notice on the first page of the facsimile that informs the recipient of the ability and means to request that they not receive future unsolicited facsimile advertisements from the sender; (2) Established Business Relationship Recordkeeping whereas the Junk Fax Prevention Act provides that the sender, e.g., a person, business, or a nonprofit/institution, is prohibited from faxing an unsolicited advertisement to a facsimile machine unless the sender has an “established business relationship” (EBR) with the recipient; (3) Facsimile Number Recordkeeping in which the Junk Fax Prevention Act provides that an EBR alone does not entitle a sender to fax an advertisement to an individual or business. The fax number must also be provided voluntarily by the recipient; and (4) Express Invitation or Permission Recordkeeping where in the absence of an EBR, the sender must obtain the prior express invitation or permission from the consumer before sending the facsimile advertisement.

Section 227 of the Communications Act of 1934, as amended, and the FCC's parallel rules restrict various telemarketing and advertising activities. The new Junk Fax/Telemarketing Form, FCC Form 1088, is designed specifically for complaints that involve (1) junk faxes, (2) telemarketing (including do-not-call violations), and (3) other related issues such as prerecorded messages, automatic telephone dialing systems, and unsolicited commercial email messages to wireless telecommunications devices (cell phones, pagers). FCC Form 1088 will allow the Commission to collect detailed information from consumers concerning possible violations of the Communications Act and the FCC's fax and telemarketing rules, which will enable the Commission to investigate rule violations more efficiently and to initiate enforcement actions against violators as appropriate. By collecting their complaints and related information in a single, comprehensive template, the form will provide a standardized way for consumers to file complaints, thus eliminating the need for further documentation or questions from FCC investigators to determine whether violations have occurred. This ensures that consumers can present their complaints in a way that maximizes the FCC's ability to take enforcement actions against violators and protects complainants and other consumers from unlawful telemarketing and faxing that is intrusive, uninvited, and possibly costly. Furthermore, the form's format avoids the need for complainants to compose narratives that describe unwanted telemarketing or faxing, and instead permits complainants to answer questions, principally by simply selecting options presented on the form, which should reduce the time to file a complaint. The form will allow the Commission to gather and to review this information more efficiently. The information the form collects may ultimately become the foundation for enforcement actions and/or rulemaking proceedings, as appropriate.

FCC Form 1088 asks for the complainant's contact information, including name, address, telephone number and e-mail address; then presents a “gateway” question to determine the general topic of the complaint: (1) A fax or (2) a call or message to a residential telephone, business telephone, emergency telephone or patient telephone, wireless telecommunications device, or any service for which the called party is charged. After the complainant answers this question, the form asks additional questions geared to the specific type of incident reported. The form poses certain mandatory threshold questions that must be answered for the Commission to determine whether a violation has occurred. It also presents optional questions for complainants who wish to provide the Commission with more detailed information that a complainant believes may assist the Commission in investigating the complaint. Finally, the form permits a complainant to attest to the accuracy of the information provided by ensuring that the Commission has documentation necessary for any possible enforcement actions without further contacting the complainant to obtain a sworn declaration or other materials. The Commission believes the new FCC Form 1088 to be a logical extension of its Junk Fax and Telemarketing rulemaking efforts.

Federal Communications Commission.
Marlene H. Dortch,
Secretary.

[FR Doc. 07-309 Filed 1-23-07; 8:45 am]

BILLING CODE 6712-01-M